DEPARTMENT OF HEALTH AND HUMAN SERVICES

National Institutes of Health

National Institute of Child Health and Human Development; Notice of Meeting

Pursuant to section 10(a) of the Federal Advisory Committee Act, as amended (5 U.S.C. Appendix 2), notice is hereby given of a meeting of the National Children's Study Advisory Committee.

The meeting will be open to the public, with attendance limited to space available. Individuals who plan to attend and need special assistance, such as sign language interpretation or other reasonable accommodations, should notify the Contact Person listed below in advance of the meeting.

Name of Committee: National Children's Study Advisory Committee.

Date: April 22-23, 2008.

Time: 9 a.m. to 4 p.m.

Agenda: The agenda will include updates of Study Center activities, an expert panel report on public use data access and disclosure control, reports from both the Ethics and Community Outreach and Engagement Subcommittees, and the status of the Office of Management and Budget review.

Place: Bethesda North Marriott Hotel & Conference Center, 5701 Marinelli Road, Bethesda, MD 20892.

Contact Person: Jessica Sapienza, Committee Liaison Officer, National Children's Study, Division of Epidemiology, Statistics, and Prevention Research, NICHD, NIH, 6100 Executive Blvd., Room 5C01, Bethesda, MD 20892, (703) 902-1339, ncsinfo@mail.nih.gov.

Any interested person may file written comments with the committee by forwarding the statement to the Contact Person listed on this notice. The statement should include the name, address, telephone number and when applicable, the business or professional affiliation of the interested person.

(Catalogue of Federal Domestic Assistance Program Nos. 93.864, Population Research; 93.865, Research for Mothers and Children; 93.929, Center for Medical Rehabilitation Research; 93.209, Contraception and Infertility Loan Repayment Program, National Institutes of Health, HHS)

Dated: March 13, 2008.
Jennifer Spaeth,
Director, Office of Federal Advisory Committee Policy.

[FR Doc. E8-5584 Filed 3-20-08; 8:45 am]

BILLING CODE 4140-01-M